DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending September 30, 2011.

Last name | First name | Middle name/initials
ABRAHAM | GABRIELLE | TONY
ADUSUMILLI | PANDURANGA | R
AGUILAR | MARIA | L
AHMAD | IBRAHEEM | MUSTAFA
AJAMI | RAMI | MOHAMAD
ALEXIOU | ANDREW | CHRISTOPHER
ALIREZA | MISHAEL | FAHD
ALTOE | SUSANNE | NICOLE
AMITTAI | DEKEL |
AMRINE | DOUGLAS | SCOTT
ANDREWS | PHILIP | NEWTON
AOKI | HISAE |
ARP | WILLIAM | FRED
ARYA | JAI |
ARYA | ROHINI |
ASHKENAZY | ALEXANDRA | INGA
ATKINSON | EVON | ST PATRICK CULLITON
AUERBACH | MELINA |
AVERY | THOMAS | YUL
BAER | JULIAN | JULIUS
BAGGETT | SUSAN |
BANKES | FLORA | JUNE
BARBALACO | STEPHEN |
BATES | LIAM | ROBERT
BAXTER | CALEB | CHRISTOPHER
BERG | SHANE | DAVID
BERNARD | STEVEN | JACQUES
BERTSCHI | HANSPETER | ANDREA
BINER | ALFRED | ALEXANDER P
BIRDWELL | NATALIE |
BLANK | JASON | MARSHALL
BLIN | JEAN |
BOEY | MARK | FREDERICK
BONNARD BARBIER | CARINE | AYMONE
BORTHEN | JUST CHRISTPHER | WESTCOTT
BOTNAR | RENE | M
BRIDGES | STEPHEN | JACK
BRONIMANN | ANDREA | JANE
BROWER | LAWRENCE | EDWARD
BRUNNER | STEPHAN | CONRAD
BURKHARDT | ROBERT | RYAN
CALCAGNITI | FRANCISCO |
CARLIN | ALEXIS | ANNE
CASPERS | FLORIAN | BENJAMIN
CHAE | BRANDON | JAE
CHAE | JENNIFER | ANN
CHAMPETIER | VINCENT |
CHAN | VIOLA | K
CHEE | GLENN | WEN HAN
CHEN | ANDY | PAUL
CHEN | EUNICE | JOY
CHEN | MAX | HAN-LI
CHENG | HUAYI |
CHEONG | TIMOTHY | HSIA WEN
CHEUNG | SIN | TING ALICE
CHIANG | ANDREW | YU-CHING
CHIU | GEORGIANA | KONG SUIT
CHO | ALEXANDER | HAN
CHOI | SUN | YOUNG
CHOONG | CAROLINE | VICTORIA
CHOU | PATRICK | JAMES
CHOU | TOM | CHI-KWAN
CHRISTENSON | DEBORAH |
CHRISTENSON | STEPHEN | V
CHUA | CHOON | MUI
CHUA | KEVIN | WEI QIANG
CHUNG | JUDY |
CLUBB | BRYCE | STEVEN
COFFEY | ROSALIND | M
COHEN | CLAUDE | SOL
CONGER | RONALD | EUGENE
CONWAY | KATE |
COTTON | JUDITH | F
CSAPO | JOHN | FRANK
D'AMATO | MARCELO |
DASKALOVIC | MONIQUE |
DAWSON | HEIDI | KATHRYN
DE MORANVILLE | CLAUDE | V C SELLIERS
DE PAIVA | JULIA | SOUZA
DEAN | JANET | TERESA
DEBLESER | ALEXANDER |
DENTON | CHRIS | EDWARD
DEURING | ALEXANDER | ALBERT
DI DONATO | ROBERTO |
DOERHOLT | DOROTHE |
DORRES LOSCH | PAULA | MICHELLE
DREVER | RONALD |
DU | YUXIANG |
DUBE | BRENDA | MARIE
DUBE | MICHEL |
DUGU | NANXUN | NATHAN
DUIMICH | RITSUKO |
EASTON | ANDREW |
EASTON | ELIZABETH |
EGBERTS | JAN | H
ELARDO | MARK | ALLEN
ELKIN | SARAH |
ELLIOTT | SUSAN |
EMERSON | CATHERINE | E
EMERSON | DAVID |
ENDZWEIG | ELIZABETH |
ERB | PRISCA | REGINA
EVESTAFF | HATIM | SALIM
FAKHOURIE | SHAHINE | ELIZABETH
FANG | HENRY | H L
FARSTAD | ANNE | CHRISTINE
FENG | DAI |
FINDANI | ROBERT | M
FISCHER | JOAN | DORIS
FRAZIER | TATTAYA |
FRIES | ANNA- | CORINNA
FUSE | TETSUHARU |
GALBRAITH | JOSEPH | BENSON
GANG | DINESH |
GANN | HEIDI | CAROL
GARCIA | TERCIO | B
GASS | VERENA | LIPP
GHAI | CHINTU |
GIBSON | LORRAINE | FRANCES
GONZALES | REX | BRUCE
GRABER | IRENE | KLARA
GRACIE | JAMES | S
GRACIE | KATHERINE | J
GRANOV | ADI |
GREEN | KATHERINE | LOUISA
GREER | BUEFORD | D
GRIFFITHS | DAVID | THOMAS
GRIMM | CHRISTOPH |
GRIMM | KATJA |
GULINO | SAYAN |
HABIB | OK | YO
HACKETT | PAMELA | D. J.
HALL | NATALIE | JUDITH
HAMI | AMIR |
HAMI | HOSSEIN |
HAN | JIAHUAI |
HANICK | SUZIE |
HANSEN | MICHAEL | LEIF
HANSSON | KARL | STEFAN
HARRIGAN | TERRY | TOLEDO CARADINE
HART | MARIANNE | DANIELE
HARVEY | BRUCE | E
HASSAN | ADRIAN |
HAYDEN | RICHARD | MICHAEL
HEALEY | EDWARD | JAMES
HEALEY | SARAH | ANGELA
HELM | EVA |
HERRMANN | MARTINE | S
HESS | CLINTON | A
HESSER | BORIS | A
HEUBACH | JOHANN | GABRIEL
HEUSS | STELLA | IRENE GERTRUD
HICKERSBERGER | JOSEF | ADRIAN
HILLESLAND | SONJA | KARIN LYNCH
HIRAO | HIROKAZU |
HO | JASON | HON SUM
HO | SALENA | CHI KIT
HOLLENSTEIN | PETER |
HOLLENSTEIN | URSULA |
HONG | RICK | KWANGBUM
HOON | ELIZABETH | LI-PING
HOU | HSIEN | LIANG
HSU | MIKE |
HSU | ZE-YI |
HU | KE |
IN | KEUN | WOO
ISA | NOOR | LIZA MD
JAFFER | OMER |
JAGGI MCCOY | ISABELLE | MARY
JARDINE | KATHERINE | ALLEN
JOHNSON | ANTHONY | W
JOHNSON | RICHARD | M
JOHNSON | RUTH |
JOSEPH | CHANG | CHO YAM
KANEKO | TAIZO |
KANG | QIAO |
KANSEKINE | BETTY |
KAWKABANI | JAMES | ROBERT
KAZMI | KRISTINA | ZEHRA
KIANG | LILLIAN | SHIN PING
KIM | CHONG | AE
KIM | JULIA |
KIM | WILLIAM |
KINGMAN | MARCUS |
KOENIG | JENNIFER | RENEE
KONST | SOLVEIG |
KORZINEK | ROBERT | JAMES
KRAUSE | MARTIN | WERNER
KUSCHILL | TIMOTHY | JOHN
KWAK | PAUL |
LAGIER | DIANE | LUCE
LAL | DEEPAK | K
LANDAU | JENNIFER | MAY
LANDI | TOMMASO |
LANG | VICENTE | C
LANGHAM | ELAINE | GRACE
LAU | DOROTHY | WAN HANG
LAU | KIMBERLY | SIU YAN KAIULANI
LAU | LUCY |
LAUBE | WERNER | JOHN
LAULUND | HENRIK |
LEE | HAE | WON
LEE | HAN | YOUNG
LEE | KAI | FU
LEE | SHEN | LING
LEE | YONG | YE
LEES | MARIA | ADELAIDA BIBI
LEO | LIONEL |
LERCHBAUMER | ANDREAS | JOSEF
LEUENBERGER | STEPHAN | DAVID
LEUNG | ANDREA | TSE-HING
LEUNG | SUSAN | O
LEWIS | TODD | GRAHAM
LI | BRYAN | CHEE KEUNG
LI | LYDIA | KWAN
LIEBMANN | BRAD | HUNTER
LIM | LILLAN | YUXIAN
LIM | VIVIAN | YUJING
LIN | CHARLYN |
LINCKE | THOMAS | ROBERT
LING | PHYLLIS | T
LO | ALEXANDER | CHUN HIM
LOWENHARDT | SANNE |
LUKAC | SAVA | R
LUTHI | MAJA | CHRISTINA
MA | YUWEI |
MAC HALE | LAURA | JANE
MACFARLAND | FREDERIK | CHARLES
MAHON | ALEXANDRA | ROSE
MANINA | GEORGE |
MANSOUR | MICHAEL |
MAOR | DROR |
MAPLE | JOHN | RANDALL
MARINCEK | BORIS | CHRISTIAN
MARSHALL | PAUL | DUNCAN
MATSUNO | SATOSHI |
MC DANIEL | CRISTINA | ELENA
MCCOY | RAINER | FRANZ
MEDEIROS | PATRICIA | FARIA VASCONCELLOS
MEHES | ERIKA |
MEIER WALTER | SUSANNE |
MELVIN | STEPHEN | JENKINS
MEYER | BARBARA | JEAN
MII | MITSUKO |
MII | NOBUO |
MOLKO | ALBERT |
MONAUNI | CHRISTIAN | KARL
MONAUNI | CHRISTINE | G
MONNIER | CHARLES | EDWARD
MONNIER | SUSAN | HEFFNER
MORITZ | ERIKA |
MORITZ | GUNNAR | H
MURPHY | MICHAEL | N
MUSE | RODNEY | CHADWICK
NA | EDWARD | YOON
NADRAG | KARIN |
NADRAG | ROLF | PETER
NARWANI | AMIT | ARJAN
NEWMAN | BRIAN | MICHAEL
NG | KEILEM |
NIEM | CHRISTINE | CHEN
NIETO | ANTONIO | L
NITSCHE | MARC | ERIC
NORSTEBO | ASTRID | CHRISTINE
OKHAI | LEYLA | JIHAN
ONG | JASMINE | ANGIE
OTHON-LEVIN | AURA |
PALMER | EDWARD | LEWIS
PAN | ANDY | KUO-AN
PAN | THOMAS |
PANGBURN | STEVEN |
PAPIN | JOHN | PHILLIP
PARK | JAMES |
PARK | KYUNG | SOOK
PATTY | ELAINE | FLORENCE
PIKE | JOE | B
PIKE | KATHRYN | ANNE
PIKE | LAURA | A
PISTOR | LUDGER |
PORTER | TINA | DENISE
POSEN | KEVIN |
PREET | GARY | V
QUEEN | BRENDA | JANE
QUEK | SARAH | YING HUI
QUINN | EMMA | JANE VICTORIA
REDDING | THURSTAN | LAM
REED | KUN | TIN
RICHARD | NANCY | G
RICHTER | CHRISTOPHER | L
RICHTER | YVONNE |
RIGBY | DAVID | KEITH
RILEY | MICHAEL | SHAWN
RITCHIE | AARON | ROBERT THANKE
ROBERTSON | PENNY | SAMANTHA
ROGER | CHRISTINE | LEE
ROSS | ANNE |
ROSS | ROBERT |
RUEGG | JOSEF | NICKOLAUS
RUEGG | URSULA | MARIA
RUTLEDGE | TRACY | MARIE
SACHS | ALEXANDER | CLAUS
SACHS | PHILIPP | GUNTER MOHSEN
SAGENKAHN | DAVA | ILISE
SALAM | SAED |
SANNAREDDY | RAVINDRA | B
SAP | JAN | M
SCHAUFELBERGER | HENRI |
SCHAUFELBERGER | MARGRIT |
SCHNEIDER | ANETTE |
SCHNEIDER | MANFRED | OTTO
SCHROEDER | PETER | L
SCHRURS | ALBERT | MAURICE
SCHWARZ | MARKUS | WILLIAM
SCOTT | JUNE | E
SCOTT | ROBERT | P
SCOTT | SUSAN | ANN
SEBBA | HENRIETTA | AMY
SEIF- ELYAZAL | HATEM | SAID
SEILERN | HENRY | OGDEN
SENEFF | ELIZABETH | VICTORIA
SHATTAN | COLIN | MICHAEL
SHELTON | SCOTT | H
SHI | YIGONG |
SHIA | LOVE |
SHIPP | TIMOTHY | R
SHIUE | YEONG | RUEY
SHOKROLLAHI | MOHAMMAD | AMIN
SIDERMAN | PETER | M
SIMON | KENNETH | ROBERT
SIMPSON | DERMOT | MATTHEW
SMINKEY (AKA SMINKEY, TAKUMA) | PAUL |
SOLA | JOHN | BEN
SOLARES | SIGMUND | JOSEPH
SON | KENNY | HO
STAVRINOU | ALEXANDROS | IASONAS
STELLING | DONALD | KAY
STILTNER | MI | RYUNG
STOKES | GWYNETH | EVELYN
STOPFORD | ROBERT | WOODMAN
SU | TSUNG | HSUAN
SUBRAMANIAM | SUBITHA |
SUTTON | RICHARD | DODGE
SUZUKI | AKIKO |
SUZUKI | KAZUNORI |
SZABO | EILEEN | ROSE
TABATZNIK | RISA |
TABATZNIK | SETH | BENJAMIN
TAGAMI | MARIKO | K
TANNER | NICOLE | CAROLINE
THAM | SALOON |
THE | E | DELORES
THOMPSON | ALDIN | EUGENE
TIZARD | ROBERT |
TRAUB | ANJA |
TRIMBLE | PETER | W
TSE | MAXIMILIEN | HONG LIN
TSO | REBECCA | MAN CHI
ULIVI | JUAN | ARMANDO
URBANC | PETER | VLADIMIR
VALDEZ | LANCE | ORMAND
VAN DER GRACHT DE ROMMERSWAEL | PHILIPPE | GUY J.
VARGAS | ASTRID | PRAG
VAUGHAN | GREGORY | JEROME
VOSSEN | EMILY | SUZANNE
WAIBEL | SIGOURNEY |
WALKER | DOUGLAS | GORDON
WALLEY | AMANDA | CLARE
WALTER | FELIX | PAUL
WALZ | GERD |
WAN | SANDY | SAN-MING
WANG | DAVID | TSUNG-HO
WANG | WENNING |
WARMINGTON | CLIFFORD | EVERALD ERROL
WEBER | SONJA | HELENE
WERREN | MARKUS | PAUL
WILDE | OSAMU |
WILLCOCK | KENNETH | MILNER
WINGERT | MICHAEL | L
WINGERT | MONICA |
WITSCHI | MARION | RUTH
WOLF | LINDA |
WONG | BYRON | ANDREW
WONG | CHING | TONG
WONG | DEREK | SHU LUEN
WONG | KATHLEEN |
WONG | PHYLLIS | PO-YAN
WOU | LYNDON | LIEN-SUN
WU | BIN |
WU | HUI-YEN |
WU | KE | ISABELLA
XU | HUAZHANG |
YAMAMOTO | HARUHISA |
YANG | JUSTIN |
YANG | ROSA |
YECHIEL | JORDANA |
YOAZ | ADIEL | MENACHEM
YU | BING |
YUEN | REGINA | SI-HUI
YUNG | JEFFREY | YAN-LEUN
ZEIN | SOLAIMAN | MAZEN
ZHAO | RUI |
ZORZINO | LUCA | ALESSIO
ZUCKERBRAUN | LOUIS | DAVID

Dated: October 12. 2011.
Ann V. Gaudeli,
Manager Team 103, Examinations Operations—Philadelphia Compliance Services.

[FR Doc. 2011-27570 Filed 10-25-11; 8:45 am]

BILLING CODE 4830-01-P